SECURITIES AND EXCHANGE COMMISSION

[Release No. IC-26619]

Notice of Applications for Deregistration Under Section 8(f) of the Investment Company Act of 1940

September 24, 2004.

The following is a notice of applications for deregistration under section 8(f) of the Investment Company Act of 1940 for the month of September, 2004. A copy of each application may be obtained for a fee at the SEC's Public Reference Branch, 450 Fifth St., NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on October 19, 2004, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609.

For Further Information Contact: Diane L. Titus at (202) 942-0564, SEC, Division of Investment Management, Office of Investment Company Regulation, 450 Fifth Street, NW., Washington, DC 20549-0504.

AXP Progressive Series, Inc.

[File No. 811-1714]

Summary: Applicant seeks an order declaring that it has ceased to be an investment company. On June 25, 2004, applicant transferred its assets to a corresponding series of AXP Partners Series, Inc., based on net asset value. Expenses of $38,308 incurred in connection with the reorganization were paid by American Express Financial Corporation, applicant's investment adviser.

Filing Date: The application was filed on September 2, 2004.

Applicant's Address: 901 Marquette Ave. S, Suite 2810, Minneapolis, MN 55402-3268.

Merrill Lynch International Equity Fund

[File No. 811-6521]

Summary: Applicant seeks an order declaring that it has ceased to be an investment company. On August 23, 2004, applicant transferred its assets to Merrill Lynch International Value Fund, a series of Mercury Funds II, based on net asset value. Expenses of $214,168 incurred in connection with the reorganization were paid by the acquiring fund.

Filing Date: The application was filed on September 10, 2004.

Applicant's Address: Merrill Lynch Investment Managers, L.P., 800 Scudders Mill Rd., Plainsboro, NJ 08536.

Merrill Lynch Dragon Fund, Inc.

[File No. 811-6581]

Summary: Applicant seeks an order declaring that it has ceased to be an investment company. On June 21, 2004, applicant transferred its assets to Merrill Lynch Developing Capital Markets Fund, Inc., based on net asset value. Expenses of $208,317 incurred in connection with the reorganization were paid by the acquiring fund.

Filing Dates: The application was filed on August 2, 2004, and amended on September 10, 2004.

Applicant's Address: Merrill Lynch Investment Managers, L.P., 800 Scudders Mill Rd., Plainsboro, NJ 08536.

Eaton Vance Municipal Income Trust II (Formerly Eaton Vance Municipal Income Fund)

[File No. 811-21234]

Summary: Applicant, a closed-end investment company, seeks an order declaring that it has ceased to be an investment company. Applicant has never made a public offering of its securities and does not propose to make a public offering or engage in business of any kind.

Filing Dates: The application was filed on August 10, 2004, and amended on September 8, 2004.

Applicant's Address: The Eaton Vance Building, 255 State St., Boston, MA 02109.

Investors First Fund, Inc.

[File No. 811-4981]

Progressive Return Fund, Inc.

[File No. 811-5891]

Summary: Each applicant, a closed-end investment company, seeks an order declaring that it has ceased to be an investment company. On June 25, 2004, each applicant transferred its assets to Cornerstone Strategic Value Fund, Inc., based on net asset value. Expenses of $297,037 and $158,896, respectively, incurred in connection with the reorganizations were paid by each applicant and the acquiring fund.

Filing Dates: The applications were filed on July 27, 2004, and amended on September 10, 2004.

Applicants' Address: 383 Madison Ave., New York, NY 10179.

Mutual Fund Variable Annuity Trust

[File No. 811-8630]

Summary: Applicant seeks an order declaring that it has ceased to be an investment company. On December 5, 2003, each portfolio of the Applicant transferred its assets to the corresponding portfolio of SunAmerica Series Trust, based on net asset value. Aggregate expenses of approximately $356,608 incurred in connection with the reorganization and merger will be paid by AIG SunAmerica Life Assurance Company, First SunAmerica Life Insurance Company, and JPMorgan Chase & Company.

Filing Dates: The application was filed on December 29, 2003, and amended on September 16, 2004.

Applicant's Address: 522 Fifth Avenue, New York, New York 10036.

Merrill Lynch Variable Annuity Account

[File No. 811-3079]

Summary: Applicant seeks an order declaring that it has ceased to be an investment company. All contract owners that owned variable annuity contracts issued through the Applicant have either elected to surrender their contracts at their own initiative or are no longer living. All amounts owed under such contracts were previously distributed. The Applicant incurred no expenses in connection with the liquidation.

Filing Date: The application was filed on August 2, 2004.

Applicant's Address: Merrill Lynch Insurance Group, 1300 Merrill Lynch Drive, 2nd Floor, Pennington, New Jersey, 08534.

For the Commission, by the Division of Investment Management, pursuant to delegated authority.
Margaret H. McFarland,
Deputy Secretary.

[FR Doc. 04-21881 Filed 9-29-04; 8:45 am]

BILLING CODE 8010-01-P